DEPARTMENT OF ENERGY

Federal Energy Regulatory Commission

[Docket No. ER00-2648-000]

Southern California Edison Company; Notice of Filing

June 5, 2000.

Take notice that on May 26, 2000, Southern California Edison Company (SCE) tendered for filing a Service Agreement for wholesale Distribution service and an Interconnection Facilities Agreement (Agreements) between Gas Recovery Systems (GRS) and SCE.

These Agreements specify the terms and conditions pursuant to which SCE will interconnect GRS's generating facility to its electrical system and provide Distribution Service for up to 17.1 MW of power produced by GRS's Coyote Canyon generating facility upon the termination date of the CPUC-jurisdictional Power Purchase Contract between SCE and GRS.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-14551 Filed 6-8-00; 8:45 am]

BILLING CODE 6717-01-M